DEPARTMENT OF ENERGY

Federal Energy Regulatory Commission

[Docket No. ER98-4512-003, et al.]

Consolidated Water Power Company, et al.; Electric Rate and Corporate Filings

August 11, 2004.

The following filings have been made with the Commission. The filings are listed in ascending order within each docket classification.

1. Consolidated Water Power Company

[Docket No. ER98-4512-003]

Take notice that on August 5, 2004, Consolidated Water Power Company (Consolidated) tendered for filing proposed changes to its FERC Electric Rate Schedule No. 1. Consolidated states that the proposed changes to its FERC Rate Schedule add the new behavior rules adopted by the Commission in Docket No. EL01-118-000. See Investigation of Terms and Conditions of Public Utility Market-Based Rate Authorizations, 105 FERC ¶ 61,218 (2003). Consolidated requests an effective date of October 4, 2004.

Consolidated states that copies of this filing were served upon all persons designated on the official service list compiled by the Secretary of the FERC in Docket No. ER98-4512.

Comment Date: 5 p.m. eastern time on August 26, 2004.

2. Tyr Energy, LLC

[Docket No. ER03-1182-001]

Take notice that on August 5, 2004, Tyr Energy, LLC (Tyr) tendered for filing an amendment to its FERC Electric Tariff, Original Volume No. 1 in compliance with the Commission's order issued November 17, 2003, Amending Market-Based Rate Tariffs and Authorizations, Investigation of Terms and Conditions of Public Utility Market-Based Rate Authorizations, 105 FERC ¶ 61,218 (2003), the Commission's letter order accepting Tyr's market-based rate tariff for filing, issued on September 11, 2003, in Docket No. ER03-1182-000, and Order No. 614. Tyr's FERC Electric Tariff, Original Volume No. 1 incorporates the Market Behavior Rules set forth in the November 17 Order.

Comment Date: 5 p.m. eastern time on August 26, 2004.

3. PJM Interconnection, L.L.C.

[Docket No. ER04-653-002]

Take notice that on August 6, 2004, PJM Interconnection, L.L.C. submitted a response to the questions contained in the letter issued July 22, 2004, by the Commission's Office of Markets, Tariffs, and Rates in Docket No. ER04-653-002.

Comment Date: 5 p.m. eastern time on August 27, 2004.

4. Progress Energy, Inc., Florida Power Corporation, Carolina Power & Light Company

[Docket No. ER04-823-001]

Take notice that on August 6, 2004, Progress Energy, Inc. (Progress Energy), on behalf of Carolina Power & Light Company (CP&L) and Florida Power Corporation (FPC), tendered for filing in compliance with the Commission's letter order issued July 9, 2004, in Docket No. ER04-823-000 the pro forma LGIP and LGIA Table of Contents for CP&L's open-access transmission tariff, FERC Electric Tariff, Third Revised Volume No. 3 and FPC's open-access transmission tariff, FERC Electric Tariff, Second Revised Volume No. 6. Progress Energy requests an effective date of April 26, 2004.

Comment Date: 5 p.m. eastern time on August 27, 2004.

5. Southwest Power Pool, Inc.

[Docket No. ER04-833-001]

Take notice that on August 6, 2004, Southwest Power Pool, Inc. (SPP) submitted an amendment to its May 11, 2004, filing in Docket No. ER04-833-000. In response to the Commission's July 7, 2004, deficiency letter, SPP provided additional information regarding a proposed experimental transmission service prepayment procedure.

Comment Date: 5 p.m. eastern time on August 27, 2004.

6. Consolidated Edison Company of New York, Inc.

[Docket No. ER04-934-001]

Take notice that, on August 6, 2004, Consolidated Edison Company of New York, Inc. (ConEdison) tendered for filing Service Agreement No. 331, Substitute Original Volume No. 1 under New York Independent System Operator Inc.'s FERC Open Access Transmission Tariff, Original Volume No. 1, an Interconnection Agreement between ConEdison and Power Authority of the State of New York (NYPA). ConEdison states that the agreement amends in limited respects and supersedes an Interconnection Agreement, dated June 2, 2004, that ConEdison filed on June 17, 2004, in Docket No. ER04-934-001.

ConEdison states that copies of this filing have been served on NYPA and the New York Independent System Operator, Inc.

Comment Date: 5 p.m. eastern time on August 27, 2004.

7. PJM Interconnection, L.L.C.

[Docket No. ER04-1068-001]

Take notice that on August 6, 2004, PJM Interconnection, L.L.C. (PJM) filed an amendment to its July 30, 2004, filing in Docket No. ER04-1068-000. PJM filed two corrected revised sheets to the PJM Open Access Transmission Tariff to replace sheets submitted with the July 30, 2004, filing in this proceeding that contained typing or administrative errors. PJM requests an effective date of October 1, 2004.

PJM states that copies of the filing were served on all PJM members, the utility regulatory commissions in the PJM region, and all persons on the service list for this proceeding.

Comment Date: 5 p.m. eastern time on August 27, 2004.

8. Tucson Electric Power Company

[Docket No. ER04-1090-001]

Take notice that on August 6, 2004, Tucson Electric Power Company (Tucson Electric) tendered for filing an amendment to its August 3, 2004 filing of Service Agreement No. 233 under Tucson Electric's FERC Electric Tariff, Third Revised Volume No. 2, an agreement between Tucson Electric Power Company and Navopache Electric Cooperative.

Comment Date: 5 p.m. eastern time on August 27, 2004.

9. Central Maine Power Company

[Docket No. ER04-1101-000]

Take notice that on August 5, 2004, Central Maine Power Company (CMP) tendered for filing First Revised Service Agreement No. 48 under CMP's FERC Electric Tariff, Fifth Revised Volume No. 3, an executed Local Network Transmission Service Agreement entered into with International Paper—Jay. CMP requests an effective date of October 1, 2003.

CMP states that copies of this filing have been served on International Paper and the Maine Public Utilities Commission.

Comment Date: 5 p.m. eastern time on August 26, 2004.

10. Wolf Hills Energy, LLC

[Docket No. ER04-1102-000]

Take notice that on August 5, 2004, Wolf Hills Energy, LLC (Wolf Hills) submitted its proposed FERC Electric Tariff, Original Volume No. 2, for reactive supply and voltage control from generation sources service provided to the transmission facilities that will be controlled by the PJM Interconnection, L.L.C. (PJM) upon the transfer of operational control of American Electric Power Company's (AEP) transmission system to PJM.

Wolf Hills states that copies of the filing were served upon Wolf Hills' jurisdictional customers, PJM, AEP and the Virginia State Corporation Commission.

Comment Date: 5 p.m. eastern time on August 26, 2004.

11. Big Sandy Peaker Plant, LLC

[Docket No. ER04-1103-000]

Take notice that on August 5, 2004, Big Sandy Peaker Plant, LLC (Big Sandy) submitted, its proposed FERC Electric Tariff, Original Volume No. 2, for reactive supply and voltage control from generation sources service provided to the transmission facilities that will be controlled by the PJM Interconnection, L.L.C. (PJM) upon the transfer of operational control of American Electric Power Company's (AEP) transmission system to PJM.

Big Sandy states that copies of the filing were served upon Big Sandy's jurisdictional customers, PJM, AEP and the Public Service Commission of West Virginia.

Comment Date: 5 p.m. eastern time on August 26, 2004.

12. Oklahoma Gas and Electric Company

[Docket No. ER04-1104-000]

Take notice that on August 6, 2004, Oklahoma Gas and Electric Company (OG&E) submitted for filing OGC & E's FERC Rate Schedule Original No. 141 the Operating and Maintenance Agreement for the Transmission Assets of the McClain Generating Facility between Oklahoma Municipal Power Authority, Arkansas Public Service Commission and Oklahoma Gas and Electric Company.

OG&E states that copies of the filing were served upon Oklahoma Municipal Power Authority and the Oklahoma Corporation Commission.

Comment Date: 5 p.m. eastern time on August 27, 2004.

13. PJM Interconnection, L.L.C.

[Docket No. ER04-1105-000]

Take notice that on August 6, 2004, PJM Interconnection, L.L.C. (PJM), submitted for filing First Revised Service Agreement No. 937 under PJM's FERC Electric Tariff Sixth Revised Volume No. 1, an executed interconnection service agreement among PJM, Meyersdale Windpower, L.L.C., and Pennsylvania Electric Company, a FirstEnergy Company. PJM requests an effective date of July 7, 2004.

PJM states that copies of this filing were served upon the parties to the agreement and the state regulatory commissions within the PJM region.

Comment Date: 5 p.m. eastern time on August 27, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-1858 Filed 8-19-04; 8:45 am]

BILLING CODE 6717-01-P